SMALL BUSINESS ADMINISTRATION

[Declaration of Disaster #3639; Amendment #2]

State of Minnesota

In accordance with a notice received from the Department of Homeland Security—Federal Emergency Management Agency—effective November 3, 2004, the above declaration is hereby amended to include Martin and Olmsted Counties as disaster areas due to damages caused by severe storms and flooding occurring on September 14, 2004, and continuing through September 27, 2004.

In addition, applications for economic injury loans from small businesses located in the contiguous counties of Cottonwood, Jackson, Wabasha, Watonwan, and Winona in the State of Minnesota; and Emmet County in the State of Iowa may be filed until the specified date at the previously designated location. All other counties contiguous to the above primary counties have previously been declared.

All other information remains the same, i.e., the deadline for filing applications for physical damage is December 6, 2004, and for economic injury the deadline is July 7, 2005.

(Catalog of Federal Domestic Assistance Program Nos. 59002 and 59008.)

Dated: November 4, 2004.
Cheri L. Cannon,
Acting Associate Administrator for Disaster Assistance.

[FR Doc. 04-25224 Filed 11-10-04; 8:45 am]

BILLING CODE 8025-01-P